DEPARTMENT OF LABOR

Employment and Training Administration

[TA-W-54,620]

NVF Company Fabrication Division Wilmington, DE; Notice of Negative Determination on Reconsideration

On August 9, 2004, the Department issued an Affirmative Determination Regarding Application for Reconsideration for the workers and former workers of the subject firm. The Department's notice was published in the Federal Register on August 17, 2004 (69 FR 51106). Workers produce insulating materials and breaking systems and are not separately identifiable by product line.

The Department denied Trade Adjustment Assistance (TAA) and Alternate Trade Adjustment Assistance (ATAA) to workers of the subject firm because there were neither increased imports nor shifts of production of either insulating materials or braking systems during 2002, 2003, or January-February 2004.

In the request for reconsideration, the petitioner alleges that the subject facility is a “downstream (Fabricating) plant” and infers that the subject worker group should be eligible to apply for TAA because they fabricate articles from material produced at two affiliated plants: NVF Company, Yorklyn, Delaware and NVF Company, Kennett Square, Pennsylvania (TA-W-53,878 and TA-W-53,878A, signed February 3, 2004).

NVF Company, Yorklyn, Delaware produced vulcanized fiber. NVF Company, Kennett Square, Pennsylvania produced high-pressure laminates. Both products are made with asbestos produced at each location.

As a result of the reconsideration investigation, it was determined that the subject firm is not a downstream producer (a firm that performs additional, value-added production processes such as assembly or finishing) to a firm or subdivision that employed a group of workers who received TAA certification and that production at the subject facility is not related to the articles that was the basis for the certification.

The reconsideration investigation revealed that the subject worker group performed no additional, value-added production processes on the vulcanized rubber and high-pressure laminates produced at the sister plants. Rather, the subject facility uses the asbestos produced at the sister facilities as a raw material for the insulation and braking systems made by the subject, worker group.

Further, even if the subject facility was considered a downstream producer, the subject worker group would not be eligible for TAA certification because the insulation and braking systems produced at the subject facility are unrelated and significantly different from the vulcanized rubber and high-pressure laminates produced at the sister facilities.

Conclusion

After review of the application and investigative findings, I conclude that there has been no error or misinterpretation of the law or of the facts which would justify reconsideration of the Department of Labor's prior decision. Accordingly, the application is denied.

Signed at Washington, DC this 9th day of September, 2004.
Elliott S. Kushner,
Certifying Officer, Division of Trade Adjustment Assistance.

[FR Doc. 04-20866 Filed 9-15-04; 8:45 am]

BILLING CODE 4510-30-M